DEPARTMENT OF TRANSPORTATION

Federal Highway Administration

Supplemental Environmental Impact Statement: Ketchikan, Ketchikan Gateway Borough, Alaska

AGENCY: Federal Highway Administration (FHWA), Alaska Department of Transportation and Public Facilities (DOT&PF).

ACTION: Notice of Intent.

SUMMARY: Pursuant to 40 CFR 1501.7, the Federal Highway Administration (FHWA) in cooperation with the Alaska Department of Transportation and Public Facilities (DOT&PF) is issuing this notice to advise the public that a supplemental environmental impact statement (SEIS) will be prepared for the Gravina Access Project in the Ketchikan Gateway Borough, Ketchikan, Alaska.

FOR FURTHER INFORMATION CONTACT: Michael Vanderhoof, Environmental Coordinator, Federal Highway Administration, P.O. Box 21648, Juneau, Alaska 99802, (907) 586-7464, e-mail (Michael.vanderhoof@dot.gov), fax (907) 586-7420; or Reuben Yost, Project Environmental Coordinator, DOT&PF, P.O. Box 2506, Juneau, AK 99811-2506, e-mail (Reuben.Yost@alaska.gov), fax (907-465-2030).

SUPPLEMENTARY INFORMATION: The FHWA, in cooperation with the DOT&PF, will prepare a SEIS to examine ways to link Revillagigedo Island, home of Ketchikan and Saxman, to Gravina Island, the location of the Ketchikan International Airport, and adjoining lands that offer recreational and development potential. Currently, a ferry across Tongass Narrows provides the only regular access to Gravina Island. The need for improving access is threefold: to provide the Ketchikan Gateway Borough and its residents more reliable, efficient, convenient, and cost-effective access for vehicles, bicycles, and pedestrians to Borough lands and other developable or recreation lands on Gravina Island in support of the Borough's adopted land use plans; to improve the convenience and reliability of access to Ketchikan International Airport for passengers, airport tenants, emergency personnel and equipment, and shipment of freight; and to promote environmentally sound, planned long-term economic development on Gravina Island.

In August 2004, the FHWA issued a Final EIS for the Gravina Access Project (FHWA-AK-EIS-03-01-F) that identified Alternative F1: Bridges (200-foot high East and 120-foot high West) Between South Tongass Avenue and the Airport, via Pennock Island, as FHWA's and DOT&PF's Preferred Alternative. FHWA issued a Record of Decision on September 15, 2004, and identified Alternative F1 as the Selected Alternative. More information can be found at the project Web site: http://dot.alaska.gov/stwdplng/projectinfo/ser/Gravina/documents.shtml.

The DOT&PF moved forward in 2006 with the first phase of implementing Alternative F1: construction of the Gravina Island Highway segment, which extends from the Ketchikan International Airport south approximately 3 miles to the proposed bridge spanning the west channel of Tongass Narrows, and is expected to be completed in 2008. On September 21, 2007, due to rapidly escalating costs, Alaska Governor Sarah Palin directed the DOT&PF to look for a lower cost alternative for access to Gravina Island instead of proceeding further with Alternative F1. Therefore, the DOT&PF intends to re-examine alternatives and identify and select a new preferred alternative. FHWA informed the DOT&PF that if the Gravina Island Highway segment was not incorporated into any new preferred alternative that segment may be determined ineligible for federal aid. Most of the reasonable alternatives evaluated in the FEIS did not include the Gravina Island Highway. A SEIS is being prepared to consider the impacts of the Gravina Island Highway in the analysis of reasonable alternatives, to address the reduced funding levels available, and to identify a new preferred alternative.

The Gravina Access Project SEIS will build on the studies completed and previously approved by FHWA to identify a lower cost alternative for access to Gravina Island. The SEIS will examine several alternatives including: three ferry alternatives—one located north of the airport, one located near the existing ferry, and one located south of the airport; two 200-foot high bridge crossings located near the airport; two 120-foot high bridge crossings located near the airport; a bridge alternative that crosses Pennock Island with a 200-foot high bridge from Revilla Island to Pennock Island and a 120-foot high bridge from Pennock Island to Gravina Island; and a bridge alternative that crosses Pennock Island with a 60-foot high bridge from Revilla Island to Pennock Island and a 200-foot high bridge from Pennock Island to Gravina Island. The alternatives to be studied in detail in the SEIS will be determined by a screening process after scoping is complete and any new alternatives are identified. The No Action Alternative will remain under consideration throughout the SEIS process.

To ensure that the full range of issues related to this proposed action are addressed and all significant issues identified, comments and suggestions are invited from all interested parties. Comments should be submitted to FHWA or DOT&PF at the addresses provided above. The deadline for submitting comments to be included in the official Scoping Summary Report is August 19, 2008. Public scoping meetings will be held in Ketchikan at the Ted Ferry Civic Center, 888 Venetia Avenue on July 22, 2008, from 11 a.m.-1 p.m. and from 5 p.m.-7 p.m.

Comments received through the scoping process will be addressed in the Draft SEIS. Public notice will be given regarding the availability of the Draft SEIS for public and agency review and comment. During the comment period on the Draft SEIS, FHWA and DOT&PF will hold a Public Hearing to receive testimony concerning the Draft SEIS.

(Catalog of Federal Domestic Assistance Program Number 20.205, Highway Research, Planning and Construction. The regulations implementing Executive Order 12372 regarding intergovernmental consultation on Federal programs and activities apply to this program.)

Issued on: June 24, 2008.
David C. Miller,
FHWA Division Administrator, Juneau, Alaska.

[FR Doc. E8-14965 Filed 7-1-08; 8:45 am]

BILLING CODE 4910-22-P